DEPARTMENT OF HEALTH AND HUMAN SERVICES

National Institutes of Health

Center for Scientific Review; Amended Notice of Meeting

Notice is hereby given of a change in the meeting of the Center for Scientific Review Special Emphasis Panel Member Conflict: HIV/AIDS Interventions and Population and Public Health Approaches, March 21, 2023, 02:00 p.m. to March 21, 2023, 06:00 p.m., National Institutes of Health, Rockledge II, 6701 Rockledge Drive, Bethesda, MD 20892 which was published in the Federal Register on February 22, 2023, 88 FR 10909 Doc 2023-03570.

This meeting is being amended to change the meeting start time from 2:00 p.m. to 12:00 p.m. The meeting is closed to the public.

Dated: February 28, 2023.
David W. Freeman,
Program Analyst, Office of Federal Advisory Committee Policy.

[FR Doc. 2023-04426 Filed 3-2-23; 8:45 am]

BILLING CODE 4140-01-P